DEPARTMENT OF ENERGY

Federal Energy Regulatory Commission

[Docket No. CP18-18-000]

Notice of Schedule for Environmental Review of the Gateway Expansion Project; Transcontinental Gas Pipe Line Company, L.L.C.

On November 15, 2017, Transcontinental Gas Pipe Line Company, L.L.C. (Transco) filed an application in Docket No. CP18-18-000 requesting a Certificate of Public Convenience and Necessity pursuant to Section 7(c) of the Natural Gas Act to construct and operate certain natural gas pipeline facilities. The proposed project is known as the Gateway Expansion Project (Project), and it would increase the firm transportation capacity of Transco's existing pipeline system by 65,000 dekatherms per day and enable Transco to provide customers with an incremental service of natural gas during high demand periods.

On November 30, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, July 17, 2018.

90-day Federal Authorization Decision Deadline, October 15, 2018.

If a schedule change becomes necessary, additional notice will be provided so that the relevant agencies are kept informed of the Project's progress.

Project Description

Transco's Project would require modifications at the existing facilities in the following counties of New Jersey:

Essex County

Compressor Station 303

• Expansion of the building and installation of a 33,000 horsepower electric-motor driven compression unit and ancillary equipment; and

• extension of security fencing and access to new equipment.

Roseland Meter and Regulator

• Installation of a 36-inch Main Line block valve with automation controls.

Roseland Electric Substation

• Installation of an electric transformer unit.

Passaic County

Paterson Meter and Regulator

• Replacing the existing 12-inch headers with two new 6-inch ultrasonic meter skids and associated equipment; and

• installation of ancillary equipment.

Background

On January 2, 2018, the Commission issued a Notice of Intent to Prepare an Environmental Assessment for the Proposed Gateway Expansion Project and Request for Comments on Environmental Issues (NOI). The NOI was sent to affected landowners within 0.5 mile of the existing facilities; federal, state, and local government agencies; elected officials; environmental and public interest groups; Native American tribes; other interested parties; and local libraries and newspapers. In response to the NOI, the Commission received comments from the New Jersey Department of Environmental Protection, Sierra Club, two local community groups (350 Rockland, Roseland Against the Compressor Station), and several individual stakeholder comments. The primary issues raised by the commenters are concerns over health impacts from compressor station emissions; safety concerns including leaks, rupture, and emergency responder training; concerns that the Project would result in contaminant impacts on the nearby wetlands, wildlife, and soils; as well as concerns on cumulative impacts. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-18), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 24, 2018.
Kimberly D. Bose,
Secretary.

[FR Doc. 2018-11636 Filed 5-30-18; 8:45 am]

BILLING CODE 6717-01-P